ENVIRONMENTAL PROTECTION AGENCY

[Regional Docket No. II-2001-05; FRL-7212-1]

Clean Air Act Operating Permit Program; Petitions for Objection to State Operating Permit for the Orange Recycling and Ethanol Production Facility of Pencor-Masada Oxynol, LLC

AGENCY: Environmental Protection Agency (EPA).

ACTION: Notice of final order on petitions to object to a State operating permit.

SUMMARY: This document announces that the EPA Administrator has responded to several citizen petitions asking EPA to object to an operating permit issued by the New York State Department of Environmental Conservation (NYSDEC). Specifically, the Administrator has denied 14 petitions asking EPA to object to the State operating permit issued to the Orange Recycling and Ethanol Production Facility, proposed by Pencor-Masada Oxynol, LLC (Masada), for construction and operation in Middletown, NY.

Pursuant to section 505(b)(2) of the Clean Air Act (Act), petitioners may seek judicial review of this petition response in the United States Court of Appeals for the second circuit. Any petition for review shall be filed within 60 days from the date this notice appears in the Federal Register, pursuant to section 307 of the Act.

ADDRESSES: You may review copies of the final order, the petitions, and other supporting information at the EPA, Region 2, 290 Broadway, New York, New York 10007-1866. If you wish to examine these documents, you should make an appointment at least 24 hours before visiting day. The final order is also available electronically at: http://www.epa.gov/region07/programs/artd/air/title5/petitiondb/petitiondb2001.htm.

FOR FURTHER INFORMATION CONTACT: Steven Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

In October and November 2001, the EPA received four petitions from 14 different petitioners, requesting that EPA object to the issuance of the modified title V permit to Masada's facility. Specifically, we received separate petitions from Jeanette Nebus, Robert C. LaFleur, president of Spectra Environmental Group, Inc. (Spectra), and Deborah Glover. We also received a fourth petition with 11 signatories: Talkini Alves, Vidal Milland, Kristin Hannon, Bridgette Coppola, Nicole Young, Kathleen House, Campbell House, Susan Cohen, Debbie Carlisle, Roberta Constantino, and Elizabeth Collard.

These petitions challenged a revised permit issued on October 1, 2001, by NYSDEC for the Masada facility. NYSDEC revised the permit pursuant to a May 2, 2001 EPA order denying in part and granting in part prior title V petitions involving this facility. See 66 FR 30904, June 8, 2001. See also http://www.epa.gov/region07/programs /artd/air/title5/petitiondb/petitions/masada_decision2000.pdf. In the new petitions challenging the adequacy of the permit revisions, the petitioners allege that (1) the permit fails to include the physical or operational limits necessary to properly limit the source's PTE; (2) the permit limits actual emissions instead of potential emissions; (3) the annual emissions limits are set too close to major thresholds; (4) the hourly emissions limits have too long an averaging period; (5) the consequences of deviations from or exceedances of permit limits are not severe enough; and (6) the inspection & maintenance measures for data from continuous emissions monitors (CEM) should be clarified. Additionally, the petitioners raise issues with respect to the applicable requirements of the Standards of Performance for Industrial-Commercial-Institutional Steam Generating Units (NSPS) Subpart Db and Executive Order 12898 on Environmental Justice. Some of the petitioners also repeat issues previously addressed in the May 2001 Order.

On April 8, 2002, the Administrator issued an order denying the petitions. The order explains the reasons behind EPA's conclusion that petitioners have failed to demonstrate that Masada's permit does not assure compliance with the Act on the grounds raised.

Dated: May 8, 2002.
Jane M. Kenny,
Regional Administrator, Region 2.

[FR Doc. 02-12147 Filed 5-14-02; 8:45 am]

BILLING CODE 6560-50-P